DEPARTMENT OF JUSTICE

Notice of Lodging of Consent Decree Pursuant to the Clean Air Act

In accordance with 28 CFR § 50.7, the Department of Justice gives notice that a proposed consent decree in United States v. Hoosier Calcium Corporation, Civil No. IP 00-0977-C-T/G, was lodged with the United States District Court for the Southern District of Indiana on September 27, 2001, pertaining to Hoosier Calcium Corporation's limestone crushing facility located in Stinesville, Indiana. The proposed consent decree would resolve the United States' civil claims against Hoosier Calcium Corporation brought under the Clean Air Act, 42 U.S.C. 7401 to 7671q.

Under the proposed consent decree, Hoosier Calcium Corporation will pay a civil penalty of $20,000 and undertake a number of injunctive measures at the Facility, including repair and replacement of equipment that prevents fugitive dust emissions; improved record keeping; improved operating procedures; initiation of daily inspections of control equipment; the purchase, installation and continuous operation of baghouses; removal of outside storage of crushed limestone; and continuous compliance with the Indiana SIP and all permits. The consent decree also requires the payment of stipulated penalties for failure to comply with the compliance plan. Finally, the consent decree requires Hoosier to shut down and permanently discontinue operations if it fails to achieve and maintain compliance by April 2, 2002.

The Department of Justice will receive, for a period of thirty (30) days from the date of this publication, comments relating to the proposed consent decree. Comments pertaining to the proposed consent decree should refer to United States v. Hoosier Calcium Corporation, Cause No. IP 00-0977-C-T/G and DOJ No. 90-5-2-06730.

The proposed consent decree may be examined at: (1) the Office of the United States Attorney for the Southern District of Indiana, 10 West Market, Suite 2100, Indianapolis, Indiana 46204, (317) 226-6333; and (2) the United States Environmental Protection Agency (Region 5), 77 West Jackson Boulevard, Chicago, Illinois 60604-3590 (contact Jane Woolums (312-886-6720)). A copy of the proposed consent decree may also be obtained by mail from the Department of Justice Consent Decree Library, P.O. Box 7611, Washington, DC 20044. In requesting a copy, please refer to the referenced case and DOJ Number 90-5-2-06730 and enclose a check in the amount of $4.75 for the consent decree (19 pages at 25 cents per page reproduction costs), made payable to the Consent Decree Library.

William D. Brighton,
Assistant Chief, Environmental Enforcement Section, Environment and Natural Resources Division.

[FR Doc. 01-25870 Filed 10-12-01; 8:45 am]

BILLING CODE 4410-15-M